ENVIRONMENTAL PROTECTION AGENCY

[EPA-HQ-OPP-2006-0936; FRL-8345-7]

Notice of Filing of Pesticide Petitions for Residues of Pesticide Chemicals in or on Various Commodities

AGENCY: Environmental Protection Agency (EPA).

ACTION: Notice.

SUMMARY: This notice announces the initial filing of pesticide petitions proposing the establishment or modification of regulations for residues of pesticide chemicals in or on various commodities.

DATES: Comments must be received on or before February 22, 2008.

ADDRESSES: Submit your comments, identified by docket identification (ID) number and the pesticide petition number (PP) of interest, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket’s normal hours of operation (8:30 a.m. to 4 p.m., Monday through Friday, excluding legal holidays). Special arrangements should be made for deliveries of boxed information. The Docket Facility telephone number is (703) 305-5805.

Instructions: Direct your comments to the assigned docket ID number and the pesticide petition number of interest. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy. Publicly available docket materials are available electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: The person listed at the end of the pesticide petition summary of interest.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Docket ID Numbers

When submitting comments, please use the docket ID number and the pesticide petition number of interest, as shown in the table.

PP Number | Docket ID Number
PP 3E6585 | EPA-HQ-OPP-2007-0626
PP 2E6481 | EPA-HQ-OPP-2007-0626
PP 3E6544 | EPA-HQ-OPP-2007-0626
PP 2E6424 | EPA-HQ-OPP-2007-0626
PP 7E7235 | EPA-HQ-OPP-2007-1069
PP 7E7256 | EPA-HQ-OPP-2007-0987
PP 7E7270 | EPA-HQ-OPP-2007-1106
PP 7E7273 | EPA-HQ-OPP-2007-1161
PP 7F7176 | EPA-HQ-OPP-2007-1076
PP 7F7226 | EPA-HQ-OPP-2007-0506
PP 0F6159 | EPA-HQ-OPP-2007-1021
PP 6F7070 | EPA-HQ-OPP-2007-1021

III. What Action is the Agency Taking?

EPA is printing notice of the filing of pesticide petitions received under section 408 of the Federal Food, Drug, and Cosmetic Act (FFDCA), 21 U.S.C. 346a, proposing the establishment or modification of regulations in 40 CFR part 180 for residues of pesticide chemicals in or on various food commodities. EPA has determined that the pesticide petitions described in this notice contain data or information regarding the elements set forth in FFDCA section 408(d)(2); however, EPA has not fully evaluated the sufficiency of the submitted data at this time or whether the data support granting of the pesticide petitions. Additional data may be needed before EPA rules on these pesticide petitions.

Pursuant to 40 CFR 180.7(f), a summary of each of the petitions included in this notice, prepared by the petitioner, is included in a docket EPA has created for each rulemaking. The docket for each of the petitions is available on-line at http://www.regulations.gov.

A. New Tolerances

1. PPs 3E6585, 2E6481, 3E6544, and 2E6424. (EPA-HQ-OPP-2007-0626). OR-CAL Inc., 29454 Meadowview Rd., Junction City, OR 97448, on behalf of the Interregional Research Project Number 4 (IR-4), 500 College Road East, Suite 201W, Princeton, NJ 08540, proposes to establish tolerances for residues of the molluscicide metaldehyde in or on food commodities berry group 13, lingonberry, juneberry; and salal at 0.1 part per million (ppm); artichoke at 0.05 ppm; cactus, prickly pear at 0.1 ppm; and watercress at 2.0 ppm. Lonza Inc., is the primary source of technical metaldehyde. OR-CAL, Inc., prepared and summarized the information in support of the pesticide petitions for metaldehyde, the samples were analyzed using a modification of the reference method. Analytical method for the determination of metaldehyde in lettuce by gas chromatography/mass spectrometry (GC/MS), ENC-3/99, EN-CAS Analytical Laboratories. Contact: Shaja R. Brothers, telephone number: (703) 308-3194; e-mail address: brothers.shaja@epa.gov.

2. PP 7E7235. (EPA-HQ-OPP-2007-1069). Interregional Research Project Number 4 (IR-4), 500 College Road East, Suite 201W, Princeton, NJ 08540, proposes to establish tolerances for residues of the fungicide cyprodinil: 4-cyclopropyl-6-methyl-N-phenyl-2-pyrimidinamine in or on food commodities tomato at 0.40 ppm; tomatillo at 0.40 ppm; tomato, paste at 1.0 ppm; avocado at 1.2 ppm; sapote, black at 1.2 ppm; canistel at 1.2 ppm; sapote, mamey at 1.2 ppm; mango at 1.2 ppm; papaya at 1.2 ppm; sapodilla at 1.2 ppm; star apple at 1.2 ppm; herbs subgroup 19A, fresh at 25 ppm; herbs subgroup 19A, dried at 170 ppm; vegetable, root and tuber, group, leaves at 9.0 ppm; vegetable, root, except sugarbeet subgroup at 0.60 ppm; lemon at 0.6 ppm; lime at 0.6 ppm; kiwifruit at 1.8 ppm; onion, dry bulb at 0.50 ppm; onion, green at 1.2 ppm; strawberry at 7.0 ppm; and cucurbits at 0.40 ppm. Syngenta Crop Protection has developed and validated analytical methodology for enforcement purposes. This method (Syngenta Crop Protection Method AG-631B) has passed an Agency petition method validation for several commodities and is currently the enforcement method for cyprodinil. An extensive database of method validation data using this method on various crop commodities is available. Contact: Shaja R. Brothers, telephone number: (703) 308-3194; e-mail address: brothers.shaja@epa.gov.

3. PP 7E7256. (EPA-HQ-OPP-2007-0987). Interregional Research Project Number 4 (IR-4), 500 College Road East, Suite 201W, Princeton, NJ 08540, proposes to establish a tolerance for residues of the fungicide fenbuconazole, (alpha-(2-(4-chlorophenyl)ethyl]-alpha-phenyl-3-(1H-1,2,4-triazole)-1-propanenitrile) and its metabolites cis and trans-5-(4-chlorophenyl)-dihydro-3-phenyl-3-(1H-1,2,4-triazole-1-ylmethyl)-2-3H-furanone) in or on food commodity pepper at 0.40 ppm. Adequate analytical methods are available to enforce the tolerances of fenbuconazole residues in pepper commodities using Rohm and Haas analytical method (Technical Report Number 34-90-47 or Technical Report Number 34-90-47R). The methods have undergone independent method validations and were also successfully validated by EPA with minor modifications suggested by the Agency that included procedure for the standardization of the silica gel and Florisil column clean-up elution pattern (TR-34-90-47R). The limits of quantitation and detection of the method are 0.01 µg/g and 0.003 µg/g, respectively. Contact: Shaja R. Brothers, telephone number: (703) 308-3194; e-mail address: brothers.shaja@epa.gov.

4. PP 7E7270. (EPA-HQ-OPP-2007-1106). Interregional Research Project Number 4 (IR-4), 500 College Road East, Suite 201W, Princeton, NJ 08540, proposes to establish tolerances for residues of the fungicide chlorothalonil in or on food commodities vegetables, fruiting, group 8 at 5.0 ppm; okra at 5.0 ppm; persimmon at 1.9 ppm; horseradish at 4.0 ppm; rhubarb at 5.0 ppm; ginseng at 3.0 ppm; yam at 5.0 ppm; lupine at 0.1 ppm; lentil at 0.1 ppm; vegetable, cucurbit, group 9 at 5.0 ppm; and Brassica, head and stem, subgroup 5A at 5.0 ppm. An adequate residue analytical method (gas chromatography) is available for enforcement purposes. The method is listed in the Pesticide Analytical Manual (PAM) Vol. II (PAM II). Contact: Susan Stanton, telephone number: (703) 305-5218; e-mail address: stanton.susan@epa.gov.

5. PP 7E7273. (EPA-HQ-OPP-2007-1161). Interregional Research Project Number 4 (IR-4), 500 College Road East, Suite 201W, Princeton, NJ 08540, proposes to establish a tolerance for residues of the fungicide tetraconazole in or on food commodity grape at 0.15 ppm. Adequate enforcement methodology (capillary gas chromatography with electron capture detector (GC/ECD)) is available to enforce the tolerance expression. Contact: Susan Stanton, telephone number: (703) 305-5218; e-mail address: stanton.susan@epa.gov.

6. PP 7F7176. (EPA-HQ-OPP-2007-1076). Arysta LifeScience North America Corporation, 15401 Weston Parkway, Suite 150, Cary, NC 27513, proposes to establish tolerances for residues of the insecticide/miticide 3-dodecyl-1,4-dihydro-1,4-dioxo-2-naphthyl acetate and its metabolite 2-dodecyl-3-hydroxy-1,4-naphthoquinone expressed as acequinocyl equivalents in or on food commodities grapes at 7.0 ppm; grape juice at 0.05 ppm; and raisins at 0.1 ppm. The analytical method to quantitate residues of acequinocyl and acequinocyl-OH in/on fruit crops utilizes high pressure liquid chromatography (HPLC) using mass spectrometric (MS/MS) detection. The target limit of quantitation (LOQ) is 0.01 ppm. Contact: Marilyn Mautz, telephone number: (703) 305-6785; e-mail address: mautz.marilyn@epa.gov.

7. PP 7F7226. (EPA-HQ-OPP-2007-0506). Bayer CropScience, 2 T.W. Alexander Drive, P.O. Box 12014, Research Triangle Park, NC 27709, proposes to establish tolerances for residues of the insecticide cyfluthrin; cyano (4-fluoro-3-phenoxyphenyl)methyl-3-(2,2-dichloroethenyl)-2,2-dimethyl-cyclopropanecarboxylate in or on food commodities alfalfa, forage at 5.0 ppm and alfalfa, hay at 15.0 ppm. Adequate analytical methodology using gas chromatography/electron capture (GC/EC) detection is available for enforcement purposes. Contact: Olga Odiott, telephone number: (703) 308-9369; e-mail address: odiott.olga@epa.gov.

B. Amendment to Existing Tolerances

1. PP 7E7235. (EPA-HQ-OPP-2007-1069). Interregional Research Project Number 4 (IR-4), 500 College Road East, Suite 201W, Princeton, NJ 08540, proposes upon approval of the aforementioned tolerances (under Unit III. A.1), to remove the established tolerances in 40 CFR 180.532 for the residues of the fungicide cyprodinil (4-cyclopropyl-6-methyl-N-phenyl-2-pyrimidinamine) in or on the food commodities herb subgroup 19A, fresh at 3.0 ppm; herb subgroup 19A, dried at 15.0 ppm; carrot at 0.75 ppm; and turnip, greens at 10.0 ppm. Contact: Shaja R. Brothers, telephone number: (703) 308-3194; e-mail address: brothers.shaja@epa.gov.

2. PP 7E7270. (EPA-HQ-OPP-2007-1106). Interregional Research Project Number 4 (IR-4), 500 College Road East, Suite 201W, Princeton, NJ 08540, proposes upon approval of the aforementioned tolerances (under Unit III. A.7), to remove the established tolerances in 40 CFR 180.275 for the residues of the fungicide chlorothalonil in or on the food commodities broccoli, Brussels sprouts, cabbage, cauliflower, cucumber, melon, nonbell pepper, pumpkin, summer squash, winter squash and tomato since the proposed tolerances on fruiting vegetables, cucurbit vegetables or Brassica head and stem vegetables would apply to these commodities. Contact: Susan Stanton, telephone number: (703) 305-5218; e-mail address: stanton.susan@epa.gov.

3. PPs 0F6159 and 6F7070. (EPA-HQ-OPP-2007-1021). Nichino America, Inc., 4550 New Linden Hill Road, Suite 501, Wilmington, DE 19808, proposes to amend the inadvertent or indirect tolerances in 40 CFR 180.484 by establishing increased tolerances for residues of the fungicide flutolanil [N-(3-(1-methylethoxy)phenyl)-2-(trifluoromethyl) benzamide] and its metabolite, M-4, desisopropylflutolanil [N-3(3-hydroxyphenyl)2-(trifluromethyl) benzamide] in or on the food commodities soybean forage at 9.0 ppm; soybean hay at 2.0 ppm; soybean seed at 0.20 ppm; wheat bran at 0.30 ppm; wheat forage at 2.0 ppm; wheat grain at 0.10 ppm; wheat hay at 1.0 ppm; wheat straw at 0.30 ppm; corn, field, forage at 0.30 ppm; corn, field, grain at 0.20 ppm; corn field, stover at 0.30 ppm; and cotton, undelinted seed at 0.20 ppm. Flutolanil and its metabolites are converted to 2-trifluoromethyl benzoic acid and calculated as flutolanil in the gas chromatography/mass spectrometry mass spectrometry (GC/MS MS) detection method used for soybean and wheat commodities. Flutolanil and M-4 are detected directly in the liquid chromatography/mass spectrometry (LC/MS) detection method used for corn and cotton. Contact: Lisa Jones, telephone number: (703) 308-9424; e-mail address: jones.lisa@epa.gov.

List of Subjects

Environmental protection, Agricultural commodities, Feed additives, Food additives, Pesticides and pests, Reporting and recordkeeping requirements.

Dated: January 14, 2008.
Donald R. Stubbs,
Acting Director, Registration Division, Office of Pesticide Programs.

[FR Doc. E8-1001 Filed 1-22-08; 8:45 am]

BILLING CODE 6560-50-S